ENVIRONMENTAL PROTECTION AGENCY

[EPA-HQ-OPP-2015-0022; FRL-9947-94]

Pesticide Product Registration; Receipt of Applications for New Uses

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before August 22, 2016.

ADDRESSES: Submit your comments, identified by docket identification (ID) number EPA-HQ-OPP-2015-0022 and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Susan Lewis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications.

EPA Registration Number: 100-1533. Docket ID number: EPA-HQ-OPP-2016-0049. Applicant: Syngenta Crop Protection LLC, 410 Swing Road, P.O. Box 18300, Greensboro, NC 27419-8300. Active ingredient: Oxathiapiprolin. Product type: Fungicide. Proposed use: Basil; Brassica head and stem vegetable group 5-16; Leafy greens subgroup 4-16A. Contact: RD.

EPA Registration Number: 100-1571. Docket ID number: EPA-HQ-OPP-2016-0049. Applicant: Syngenta Crop Protection LLC, 410 Swing Road, P.O. Box 18300, Greensboro, NC 27419-8300. Active ingredient: Oxathiapiprolin. Product type: Fungicide. Proposed use: Caneberry subgroup 13-07A; Leafy greens subgroup 4-16A; Stalk and stem vegetable subgroup 22A. Contact: RD.

EPA Registration Number: 100-1572. Docket ID number: EPA-HQ-OPP-2016-0049. Applicant: Syngenta Crop Protection LLC, 410 Swing Road, P.O. Box 18300, Greensboro, NC 27419-8300. Active ingredient: Oxathiapiprolin. Product type: Fungicide. Proposed use: Leafy greens subgroup 4-16A; Basil, Brassica head and stem vegetable group 5-16; Brassica leafy greens subgroup 4-16B. Contact: RD.

EPA Registration Numbers: 264-693 and 264-695. Docket ID number: EPA-HQ-OPP-2016-0064. Applicant: Bayer CropScience, 2 T.W. Alexander Drive, Research Triangle Park, NC 27709. Active ingredient: Fenamidone. Product type: Fungicide. Proposed use: Basil; Brassica, head and stem, group 5-16; Brassica, leafy greens, subgroup 4-16B; Cotton subgroup 20C; Leafy greens subgroup 4-16A; Leaf petiole vegetable subgroup 22B. Contact: RD.

EPA Registration Numbers: 264-1105 & 264-1106. Docket ID number: EPA-HQ-OPP-2016-0166. Applicant: Bayer CropScience, 2 T.W. Alexander, P.O. Box 12014, Research Triangle Park, NC 27709. Active ingredient: Indaziflam. Product type: Herbicide end-use product. Proposed uses: For control of weeds in crops within the following crop groups/subgroups: Bushberry subgroup 13-07B; Caneberry subgroup 13-07A; Fruit, small, vine climbing, except fuzzy kiwifruit, subgroup 13-07F; Fruit, stone, group 12-12; Nut, tree, group 14-12; Tropical and Subtropical, small fruit, edible peel subgroup 23A; and the individual crops of coffee and hops. Contact: RD.

EPA Registration Number: 264-1129. Docket ID number: EPA-HQ-OPP-2016-0166. Applicant: Bayer CropScience, 2 T.W. Alexander, P.O. Box 12014, Research Triangle Park, NC 27709. Active ingredient: Indaziflam. Product type: Herbicide technical use product. Proposed use: For formulation into end-use indaziflam products that are used to control weeds in crops within the following crop groups/subgroups: Bushberry subgroup 13-07B; Caneberry subgroup 13-07A; Fruit, small, vine climbing, except fuzzy kiwifruit, subgroup 13-07F; Fruit, stone, group 12-12; Nut, tree, group 14-12; Tropical and Subtropical, small fruit, edible peel subgroup 23A; as well as the individual crops of coffee and hops. Contact: RD.

EPA Registration Number: 352-728 & 352-844. Docket ID number: EPA-HQ-OPP-2013-0235. Applicant: E.I. du Pont de Nemours & Company., Dupont Crop Protection, Stine-Haskell Research Center, P.O. Box 30, Newark, DE 19714-0300. Active ingredient: Chlorantraniliprole. Product type: insecticide. Proposed Use: Teff and quinoa. Contact: RD.

EPA Registration Number: 352-890. Docket ID number: EPA-HQ-OPP-2016-0049. Applicant: E.I. du Pont de Nemours and Company, Inc., Dupont Crop Protection, Stine-Haskell Research Center, P.O. Box 30, Newark, DE 19714-0300. Active ingredient: Oxathiapiprolin. Product type: Fungicide. Proposed use: Basil; Brassica head and stem vegetable group 5-16; Brassica leafy greens subgroup 4-16B; Leafy greens subgroup 4-16A; Caneberry subgroup 13-07A; Stalk and stem vegetable subgroup 22A. Contact: RD.

EPA Registration Number: 61842-21. Docket ID number: EPA-HQ-OPP-2016-0326. Applicant: Tessenderlo Kerley, Inc., 2255 N. 44th Street, Suite 300, Phoenix, AZ 85008. Active ingredient: Linuron. Product type: Herbicide. Proposed use: Expansion of potato use to remove regional restrictions. Contact: RD.

EPA Registration Numbers: 62719-21 and 62719-684. Docket ID number: EPA-HQ-OPP-2016-0295. Applicant: Dow AgroSciences, 9330 Zionsville Road, Indianapolis, IN 46268. Active ingredient: Nitrapyrin. Product type: Herbicide. Proposed use: Nut, tree, group 14-12 and almond, hulls. Contact: RD.

EPA Registration Numbers: 67690-73, 67690-74, 67690-75. Docket ID number: EPA-HQ-OPP-2016-0325. Applicant: SePRO Corporation, 11550 North Meridian Street, Suite 600, Carmel, IN 46032. Active ingredient: Fluridone. Product type: Herbicide. Proposed use: cotton, gin bypoducts. Contact: RD.

Authority: 7 U.S.C. 136 et seq.

Dated: June 29, 2016.
Susan Lewis,
Director, Registration Division, Office of Pesticide Programs.

[FR Doc. 2016-17407 Filed 7-21-16; 8:45 am]

BILLING CODE 6560-50-P